DEPARTMENT OF COMMERCE

[Docket No. 200302-0069]

Privacy Act of 1974; System of Records

AGENCY: U.S. Department of Commerce, U.S. Census Bureau.

ACTION: Notice of a modified privacy act system of records.

SUMMARY: In accordance with the Privacy Act of 1974, and Office of Management and Budget (OMB) Circular A-108, “Federal Agency Responsibilities for Review, Reporting, and Publication under the Privacy Act,” the Department of Commerce (Department) is issuing this notice of intent to modify a system of records, COMMERCE/CENSUS-5, Decennial Census Programs.

DATES: To be considered, written comments must be submitted on or before August 21, 2020. This amended system of records will become effective on July 22, 2020, unless the modified system of records notice needs to be changed as a result of public comment.

Newly proposed routine uses in the paragraph entitled “ROUTINE USES OF RECORDS MAINTAINED IN THE SYSTEM, INCLUDING CATEGORIES OF USERS AND PURPOSES OF SUCH USES” will become effective on July 27, 2020, unless the modified system of records notice needs to be changed as a result of public comment.

If the modified system of records notice needs to be changed, the Department will publish a subsequent notice in the Federal Register by September 5, 2020, stating that the current system of records will remain in effect until a revised notice is published in the Federal Register.

ADDRESSES: Please address comments to: Byron Crenshaw, Privacy Compliance Branch, Room 8H021, U.S. Census Bureau, Washington, DC 20233-3700 or by email (Byron.Crenshaw@census.gov).

FOR FURTHER INFORMATION CONTACT: Chief, Privacy Compliance Branch, Policy Coordination Office, Room HQ-8H021, U.S. Census Bureau, Washington, DC 20233-3700 or by email (Byron.Crenshaw@census.gov).

SUPPLEMENTARY INFORMATION: This update makes six program-related changes. The first proposed change to program related provisions updates the location of the system to account for records temporarily stored in the Amazon Web Services (AWS), a Federal Risk and Authorization Management Program (FedRAMP) approved cloud service provider (CSP), which is an external hosting infrastructure and platform-as-a-service. FedRAMP is a government-wide program that provides a standardized approach to security assessment, authorization, and continuous monitoring for cloud products and services. The AWS CSP will maintain decennial census records (including testing information) during decennial census operations; no records that are a part of the U.S. Census Bureau (Census Bureau) American Community Survey (as described more fully in “Purpose(s) of the System” below) records will be maintained by the CSP. The second proposed change updates the authorities to remove the anti-wiretapping law. The third proposed change updates the categories of individuals to include subjects of tests, focus groups, and cognitive interviews. The fourth proposed change updates the categories of records to provide new detail regarding the information that may be contained in the population information category, including citizenship, date of birth, ethnicity, and number of weeks worked, etc.; and, in the housing information category, including data on amenities and utilities, home ownership, and number of vehicles kept or used, etc. Note that the Decennial Census of Population and Housing (the Decennial Census) does not collect citizenship information from respondents; for this system of records; only the ACS collects citizenship information from respondents. The fifth proposed change clarifies the record source categories to include direct responses of individuals in surveys, censuses, focus groups, cognitive interviews, and tests and comparable data that may be obtained from records covered by COMMERCE/CENSUS-8, Statistical Administrative Records System, including data from third-party entities. The sixth proposed change updates the policies and practices for storing the records to include temporary storage by the cloud service provider during decennial census operations. This amendment also provides minor administrative updates, including non-substantive changes to the description of routine uses of records maintained in the system. This notice does not contain any newly proposed or significantly modified routine uses.

The changes are being made in accordance with OMB Circular A-108 which requires agencies to periodically review systems of records notices for accuracy and completeness, paying special attention to changes in the manner in which records are organized, indexed, or retrieved that results in a change in the nature or scope of these records; and, the Privacy Act which requires agencies to publish in the Federal Register a notice that describes the changes to the system of records. The Privacy Act also requires each agency that proposes to establish or significantly modify a system of records to provide adequate advance notice of any such proposal to the OMB, the Committee on Oversight and Government Reform of the House of Representatives, and the Committee on Homeland Security and Governmental Affairs of the Senate (5 U.S.C 552a(r)). Significant modifications include adding a new routine use. The purpose of providing the advance notice to OMB and Congress is to permit an evaluation of the potential effect of the proposal on the privacy and other rights of individuals. The Department filed a report describing the modified system of records covered by this notice with the Chair of the Senate Committee on Homeland Security and Governmental Affairs, the Chair of the House Committee on Oversight and Government Reform, and the Deputy Administrator of the Office of Information and Regulatory Affairs, OMB on May 18, 2020.

SYSTEM NAME AND NUMBER:

COMMERCE/CENSUS-5, Decennial Census Programs.

SECURITY CLASSIFICATION:

None.

SYSTEM LOCATION:

U.S. Census Bureau, 4600 Silver Hill Road, Washington, DC 20233-8100; Bureau of the Census, Bowie Computer Center, 17101 Medford Boulevard, Bowie, Maryland 20715; and at Amazon Web Services (AWS), located at 410 Terry Ave. N, Seattle, WA 98109.

SYSTEM MANAGER(S):

Associate Director for Decennial Census Programs, U.S. Census Bureau, 4600 Silver Hill Road, Washington, DC 20233-8000.

AUTHORITY FOR MAINTENANCE OF THE SYSTEM:

13 U.S.C. 6(c), 141 and 193.

PURPOSE(S) OF THE SYSTEM:

The purpose of this system is to collect statistical information from respondents for Decennial Census Programs using responses to questions in order to provide key social, housing, and economic data for the nation. This system of records for Decennial Census Programs records is comprised of the Decennial Census of Population and Housing (the Decennial Census) records and American Community Survey (ACS) records. The primary uses of ACS data include: Supporting the federal government in administration of programs; providing public officials, planners, and entrepreneurs with information they can use to assess the past and plan for the future; providing information for community planning for hospitals and schools, supporting school lunch programs, improving emergency services, building bridges; and, informing businesses looking to add jobs and expand to new markets. The primary uses of decennial census data include: Apportioning the representation among states as mandated by Article I, Section 2 of the United States Constitution; drawing congressional and state legislative districts, school districts and voting precincts; enforcing voting rights and civil rights legislation; providing data for federal, state, local and tribal governments to use in distributing federal dollars to states; informing federal, tribal, state, and local government planning decisions; informing business and nonprofit organization decisions (e.g., where to locate and size of the market); and, providing population benchmarks for nearly every other U.S. survey. Census and survey records from the Decennial Census Programs are also maintained to conduct research and analysis with survey and administrative data for projects and to undertake methodological evaluations and enhancements by the Census Bureau to improve data collection and quality control. Also, information collected by the decennial census is used to provide official census transcripts of the results to the named person(s), their heirs, or legal representatives as described in COMMERCE/CENSUS-6, Population Census Personal Service Records for 1910 and All Subsequent Decennial Censuses (this does not apply to the ACS and test census or survey records).

CATEGORIES OF INDIVIDUALS COVERED BY THE SYSTEM:

All individuals responding to Decennial Census Programs, which include the ongoing ACS, the Decennial Census, as well as the test censuses, focus groups, cognitive interviews and surveys related to the ACS and the Decennial Census, are covered by the system. Participation in Decennial Census Programs is mandatory. Data collected directly from respondents may be supplemented with data from administrative record files received from other federal, state, or local agencies, and third-party entities (e.g., commercial sources) collected and processed under COMMERCE/CENSUS-8, Statistical Administrative Records System. Please see COMMERCE/CENSUS-8, Statistical Administrative Records System for more information.

CATEGORIES OF RECORDS IN THE SYSTEM:

Records collected by the ACS and its test surveys contains information such as: Population information—name, address, email address, telephone number (both landline and cell phone number), age, sex, race, date of birth, Hispanic origin, ethnicity, relationships, housing tenure, number of persons in the household, as well as more detailed information on topics such as marital status and history, fertility, income and sources, employment and history (e.g., number of weeks worked), citizenship, education, transportation type, health insurance or health coverage plans, disability, grandparents as care-givers, military status and history, etc.; Housing information—year built, structure description, uses, features, amenities, number of rooms, utilities including type of fuel, purchase type (e.g., mortgage or deed of trust), number of vehicles kept or used, and financial characteristics (e.g., ownership, home value, property taxes).

Records collected during the Decennial Census and its test censuses may contain information such as: Population information—name, address, email address, telephone number (both landline and cell phone number), age, sex, race, Hispanic origin, relationship, housing tenure, number of persons in the household. Note that the Decennial Census of Population and Housing (the Decennial Census) does not collect citizenship information from respondents. In accordance with 13 U.S.C 6(c), information in the Decennial Census Programs may, under specific circumstances and arrangements, also come from administrative records obtained from federal, states, counties, cities, or other units of government. For instance, the Census Bureau works with all Federal agencies to obtain counts from their records of Federally affiliated persons living overseas. The Census Bureau also makes arrangements with certain types of facilities (e.g., prisons, long-term care facilities, colleges) to obtain administrative records data on individuals when direct enumeration of those people is not feasible for safety, health, or other reasons. Please see COMMERCE/CENSUS-8, Statistical Administrative Records for more information. Test censuses, surveys, and research study records may contain information on individuals similar to that included in the ACS and Decennial Census. Field Representative and interviewer characteristics as well as paradata collected during the Decennial Census Programs (including data obtained during recordings) may also be collected. Paradata maintained in this system of records includes: Method of interview; time and date stamps; deleted changes; audit trail and trace files; item non-response, refusals, and don't know responses; Global Positioning System coordinates; all internet paradata, including internet Protocol address; mobile device identification, etc.

RECORD SOURCE CATEGORIES:

In general, the records in this system come from the subject individuals covered by Census Bureau decennial censuses and the ACS as well as subjects from tests, focus groups, and cognitive interviews. Data collected directly from respondents may be supplemented with information from administrative records for person-level characteristics or address updates obtained from federal, states, counties, cities, or other units of. Please see COMMERCE/CENSUS-8, Statistical Administrative Records System for more information.

ROUTINE USES OF RECORDS MAINTAINED IN THE SYSTEM, INCLUDING CATEGORIES OF USERS AND PURPOSES OF SUCH USES:

There are no routine uses for the COMMERCE/CENSUS-5, Decennial Census Programs. Access to records maintained in the system is restricted to Census Bureau employees and certain individuals authorized by Title 13, U.S. Code (designated as Special Sworn Status individuals). Although there are no routine uses for the COMMERCE/CENSUS-5, Decennial Census Programs, access to records maintained in the system is restricted to Census Bureau employees and certain individuals authorized by Title 13, U.S. Code (designated as Special Sworn Status individuals). These individuals are subject to the same confidentiality requirements as regular Census Bureau employees.

POLICIES AND PRACTICES FOR STORAGE OF RECORDS:

Records (including, but not limited to, sound and video files of survey and cognitive interviews, and pilot tests) are stored in a secure computerized system and on magnetic media; output data will be either electronic or paper copies (including transcripts of sound files). Paper copies or magnetic media are stored in a secure area within a locked drawer or cabinet. Datasets may be accessed only by authorized personnel. Control lists will be used to limit access to those employees with a need to know; rights will be granted based on job functions. Decennial Census records may also be stored at the AWS cloud service provider (CSP). The AWS CSP will maintain Decennial Census records (including testing information) during decennial census operations; no ACS records will be maintained by the AWS CSP. The AWS CSP has no access to Decennial Census records including incidental access. After decennial operations, the records maintained by the AWS CSP will be archived at the Census Bureau.

POLICIES AND PRACTICES FOR RETRIEVAL OF RECORDS:

Information collected by the Decennial Census Programs may be retrieved by direct identifiers such as name and address. However, only a limited number of sworn Census Bureau staff will be permitted to retrieve records containing direct identifiers for authorized work-related purposes. Staff producing final statistical products will have access only to data sets from which direct identifiers have been deleted and replaced by unique non-identifying codes internal to the Census Bureau.

POLICIES AND PRACTICES FOR RETENTION AND DISPOSAL OF RECORDS:

Respondent data collected through the Decennial Census Programs, including personally identifiable data, are in some cases captured as images suitable for computer processing. Original paper data sources are destroyed, according to the record disposal procedures, after confirmation of successful electronic data capture and secure data transmission of the images to Census Bureau headquarters. For the ACS, personally identifiable data are scheduled for permanent retention (excluding sound and video files) in accordance with the General Records Schedule and Census Bureau records control schedules that are approved by NARA. For the Decennial Census, a record of individual responses, including all names and other entries provided by the respondent, and all associated address and geographic information for each housing unit or person living in group quarters are scheduled for permanent retention (excluding sound and video files that are retained in accordance with the General Records Schedule and Census Bureau records control schedules that are approved by the NARA). Pilot and cognitive test data collections, data capture, and data processing records are destroyed when two years old or when no longer needed for Census Bureau program or evaluation purposes, whichever is later. Unless otherwise specified, all records are retained in accordance with the General Records Schedule and Census Bureau records control schedules that are approved by NARA.

ADMINISTRATIVE, TECHNICAL, AND PHYSICAL SAFEGUARDS:

The Census Bureau is committed to respecting respondent privacy and protecting confidentiality. Through the Data Stewardship Program, the Census Bureau has implemented management, operational, and technical controls and practices to ensure high-level data protection to respondents of our censuses and surveys.

(1) A policy against unauthorized browsing protects respondent information from casual or inappropriate use by any person with access to Census Bureau data. Unauthorized browsing is defined as the act of searching or looking through, for other than work-related purposes, protected personal or business-related information that directly or indirectly identifies individual persons or businesses. Unauthorized browsing is prohibited.

(2) All Census Bureau employees and persons with Special Sworn Status permitted to access the system are subject to the restrictions, penalties, and prohibitions of 13 U.S.C. 9 and 214, as modified by 18 U.S.C. 3551 et seq.; and provisions of the Privacy Act, as applicable. Employees of FedRAMP-approved cloud service providers do not have access to Census Bureau data maintained in this system of records. The Census Bureau's security measures ensure that only a restricted number of authorized people have access to Title 13 information and that access is only granted to conduct our work and for no other purposes. Every person who works with the confidential information collected by the Census Bureau is sworn for life to uphold the law.

(3) All Census Bureau employees and persons with Special Sworn Status will be regularly advised of regulations governing the confidentiality of the data and will be required to complete an annual Data Stewardship Awareness program.

(4) All Census Bureau and FedRAMP-approved computer systems that maintain sensitive information are in compliance with the Federal Information Security Management Act, as amended (44 U.S.C. 3551-3559), which includes auditing and controls over access to restricted data.

(5) The use of unsecured telecommunications to transmit individually identifiable information is prohibited.

(6) Paper copies that contain sensitive information are stored in secure facilities in a locked drawer or file cabinet behind a locked door.

(7) Additional data files containing direct identifiers will be maintained solely for the purpose of data collection activities, such as respondent contact and preloading an instrument for a continued interview, and will not be transferred to, or maintained on, working statistical files.

(8) Any publications based on this system will be cleared for release under the direction of the Census Bureau's Disclosure Review Board, which will confirm that all the required disclosure avoidance procedures have been implemented and no information that identifies any individual is released.

RECORD ACCESS PROCEDURES:

None.

CONTESTING RECORD PROCEDURES:

None.

NOTIFICATION PROCEDURES:

None.

EXEMPTIONS PROMULGATED FOR THE SYSTEM:

Pursuant to 5 U.S.C. 552a(k)(4), this system of records is exempted from subsections (c)(3); (d); (e)(l); (e)(4)(G), (H), and (I); and (t) of the Privacy Act. These subsections include, but are not limited to, certain requirements concerning notification, access, and contest procedures. This exemption is applicable because the data are maintained by the Census Bureau solely as statistical records, as required under Title 13, to be used solely as statistical records and are not used in whole or in part in making any determination about an identifiable individual. This exemption is made in accordance with 15 CFR part 4 subpart B.

HISTORY:

81 FR 76557, November 3, 2016, Notice of Amendment of Privacy Act System of Records.

Dated: July 21, 2020.
Catrina D. Purvis,
Department of Commerce, Chief Privacy Officer, Director of Open Government.

[FR Doc. 2020-18660 Filed 8-24-20; 8:45 am]

BILLING CODE 3510-07-P